DEPARTMENT OF ENERGY

Federal Energy Regulatory Commission

Combined Notice of Filings #1

Take notice that the Commission received the following exempt wholesale generator filings:

Docket Numbers: EG20-206-000.

Applicants: Odom Solar, LLC.

Description: Notice of Self-Certification of Exempt Wholesale Generator Status of Odom Solar, LLC.

Filed Date: 7/2/20.

Accession Number: 20200702-5419.

Comments Due: 5 p.m. ET 7/23/20.

Docket Numbers: EG20-207-000.

Applicants: Sugar Creek Wind One LLC.

Description: Notice of Self-Certification of Exempt Wholesale Generator Status of Sugar Creek Wind One LLC.

Filed Date: 7/8/20.

Accession Number: 20200708-5125.

Comments Due: 5 p.m. ET 7/29/20.

Take notice that the Commission received the following electric rate filings:

Docket Numbers: ER10-1989-014.

Applicants: Sky River LLC.

Description: Notification of Change in Status of Sky River LLC.

Filed Date: 7/7/20.

Accession Number: 20200707-5179.

Comments Due: 5 p.m. ET 7/28/20.

Docket Numbers: ER10-2138-024; ER10-2139-024.

Applicants: Grand Ridge Energy III LLC, Grand Ridge Energy II LLC.

Description: Triennial Report Grand Ridge Energy II LLC, et al.

Filed Date: 6/30/20.

Accession Number: 20200630-5397.

Comments Due: 5 p.m. ET 8/31/20.

Docket Numbers: ER11-2154-013.

Applicants: Twin Eagle Resource Management, LLC.

Description: Triennial Market Power Update for the Northeast Region of Twin Eagle Resource Management, LLC.

Filed Date: 6/30/20.

Accession Number: 20200630-5383.

Comments Due: 5 p.m. ET 8/31/20.

Docket Numbers: ER13-1430-007; ER10-1631-016; ER10-1854-016 ER10-1859-008; ER10-1872-008; ER10-1892-014 ER10-2678-017; ER10-2729-011; ER10-2739-027; ER10-2744-017; ER11-3320-016; ER11-3321-010; ER12-995-006; ER13-1561-007; ER13-2316-014; ER14-1219-011;ER14-19-015; ER14-2548-008; ER16-1652-015; ER16-1732-010; ER16-2405-010; ER16-2406-011; ER17-1494-002; ER17-1946-009; ER17-1947-004; ER17-1948-004; ER17-989-009; ER17-990-009; ER17-992-009; ER17-993-009; ER18-95-006; ER19-170-002; ER20-1440-002; ER20-660-002.

Applicants: Arlington Valley Solar Energy II, LLC, Armstrong Power, LLC, Aurora Generation, LLC, Bath County Energy, LLC, Bolt Energy Marketing, LLC, Buchanan Energy Services Company, LLC, Buchanan Generation, LLC, Centinela Solar Energy, LLC, Chambersburg Energy, LLC, Cherokee County Cogeneration Partners, LLC, Columbia Energy LLC, Doswell Limited Partnership, Gans Energy, LLC, Gateway Energy Storage, LLC, Helix Ironwood, LLC, Helix Maine Wind Development, LLC, Helix Ravenswood, LLC, LifeEnergy, LLC, LS Power Marketing, LLC, LSP University Park, LLC, Mobile Energy L L C, Ocean State Power LLC, Riverside Generating Company, L.L.C., Rockford Power, LLC, Rockford Power II, LLC, Santa Rosa Energy Center, LLC, Seneca Generation, LLC, Springdale Energy, LLC, Troy Energy, LLC, University Park Energy, LLC, Vista Energy Storage, LLC, Wallingford Energy LLC, Yards Creek Energy, LLC.

Description: Notification of Change in Status of the LS MBR Sellers.

Filed Date: 7/7/20.

Accession Number: 20200707-5178.

Comments Due: 5 p.m. ET 7/28/20.

Docket Numbers: ER20-1453-001.

Applicants: Midcontinent Independent System Operator, Inc.

Description: Tariff Amendment: 2020-06-29_Deficiency Response for Schedule 17 Revisions to be effective 6/1/2020.

Filed Date: 6/29/20.

Accession Number: 20200629-5403.

Comments Due: 5 p.m. ET 7/20/20

Docket Numbers: ER20-2028-000.

Applicants: Bitter Ridge Wind Farm, LLC.

Description: Supplement to June 11, 2020 Bitter Ridge Wind Farm, LLC tariff filing.

Filed Date: 7/6/20.

Accession Number: 20200706-5210.

Comments Due: 5 p.m. ET 7/16/20.

Docket Numbers: ER20-2060-000.

Applicants: MPH Rockaway Peakers, LLC.

Description: Supplement to June 15, 2020 MPH Rockaway Peakers, LLC.

Filed Date: 7/7/20.

Accession Number: 20200707-5175.

Comments Due: 5 p.m. ET 7/28/20.

Docket Numbers: ER20-2098-000.

Applicants: Titan Solar 1, LLC.

Description: Supplement to June 18, 2020 Titan Solar 1, LLC.

Filed Date: 7/7/20.

Accession Number: 20200707-5176.

Comments Due: 5 p.m. ET 7/28/20.

Docket Numbers: ER20-2123-000.

Applicants: Hardin Solar Energy LLC.

Description: Supplement to June 22, 2020 Hardin Solar Energy LLC.

Filed Date: 7/1/20.

Accession Number: 20200701-5554.

Comments Due: 5 p.m. ET 7/22/20.

Docket Numbers: ER20-2337-000.

Applicants: New York Independent System Operator, Inc.

Description: § 205(d) Rate Filing: 205: NYISO Tailored Availability Metric (TAM) tariff revisions to be effective 3/1/2021.

Filed Date: 7/7/20.

Accession Number: 20200707-5133.

Comments Due: 5 p.m. ET 7/28/20.

Docket Numbers: ER20-2338-000.

Applicants: National Grid Generation LLC.

Description: § 205(d) Rate Filing: Annual Reset of Pension and OPEB Expenses to be effective 1/1/2020.

Filed Date: 7/7/20.

Accession Number: 20200707-5146.

Comments Due: 5 p.m. ET 7/28/20.

Docket Numbers: ER20-2339-000.

Applicants: Midcontinent Independent System Operator, Inc.

Description: Compliance filing: 2020-07-08_SA 3015 CED Red Lake Falls-OTP 1st Rev GIA (R101) to be effective 7/1/2020.

Filed Date: 7/8/20.

Accession Number: 20200708-5014.

Comments Due: 5 p.m. ET 7/29/20.

Docket Numbers: ER20-2340-000.

Applicants: Midcontinent Independent System Operator, Inc.

Description: Compliance filing: 2020-07-08 SA 2955 ITC Midwest-Interstate Power and Light 2nd Rev GIA (J416) to be effective 7/1/2020.

Filed Date: 7/8/20.

Accession Number: 20200708-5016.

Comments Due: 5 p.m. ET 7/29/20.

Docket Numbers: ER20-2341-000.

Applicants: Midcontinent Independent System Operator, Inc.

Description: Compliance filing: 2020-07-08 SA 3518 ITC Midwest-Interstate Power and Light FSA (J416) to be effective 7/1/2020.

Filed Date: 7/8/20.

Accession Number: 20200708-5018.

Comments Due: 5 p.m. ET 7/29/20.

Docket Numbers: ER20-2342-000.

Applicants: Midcontinent Independent System Operator, Inc.

Description: Compliance filing: 2020-07-08_SA 3515 OTP-CED Red Lake Falls FSA (R101) to be effective 8/1/2020.

Filed Date: 7/8/20.

Accession Number: 20200708-5019.

Comments Due: 5 p.m. ET 7/29/20.

Docket Numbers: ER20-2343-000.

Applicants: Upstream Wind Energy LLC.

Description: Request for Waiver and Remedial Relief of Upstream Wind Energy LLC.

Filed Date: 7/7/20.

Accession Number: 20200707-5177.

Comments Due: 5 p.m. ET 7/28/20.

Docket Numbers: ER20-2344-000.

Applicants: Southwest Power Pool, Inc.

Description: § 205(d) Rate Filing: 2236R13 Golden Spread Electric Cooperative, Inc. NITSA NOA to be effective 8/1/2019.

Filed Date: 7/8/20.

Accession Number: 20200708-5093.

Comments Due: 5 p.m. ET 7/29/20.

Docket Numbers: ER20-2345-000.

Applicants: Gulf Power Company.

Description: § 205(d) Rate Filing: Affected System Agreement to be effective 4/15/2020.

Filed Date: 7/8/20.

Accession Number: 20200708-5097.

Comments Due: 5 p.m. ET 7/29/20.

Docket Numbers: ER20-2346-000.

Applicants: California Independent System Operator Corporation.

Description: Tariff Cancellation: 2020-07-08 Notice of Termination of Pseudo PGA with CCFC Sutter Energy to be effective 7/1/2020.

Filed Date: 7/8/20.

Accession Number: 20200708-5098.

Comments Due: 5 p.m. ET 7/29/20.

Docket Numbers: ER20-2347-000.

Applicants: Avista Corporation.

Description: § 205(d) Rate Filing: Avista Corp Section 206 Docket EL20-39 LGIP to be effective 12/31/9998.

Filed Date: 7/8/20.

Accession Number: 20200708-5122.

Comments Due: 5 p.m. ET 7/29/20.

Docket Numbers: ER20-2348-000.

Applicants: PJM Interconnection, L.L.C.

Description: § 205(d) Rate Filing: Amendment to ISA, SA No. 5619; Queue No. AC1-221/AD1-058 (amend) to be effective 4/2/2020.

Filed Date: 7/8/20.

Accession Number: 20200708-5123.

Comments Due: 5 p.m. ET 7/29/20.

Docket Numbers: ER20-2349-000.

Applicants: Tri-State Generation and Transmission Association, Inc.

Description: Tariff Cancellation: Notice of Cancellation of Rate Schedule FERC No. 128 to be effective 7/9/2020.

Filed Date: 7/8/20.

Accession Number: 20200708-5128.

Comments Due: 5 p.m. ET 7/29/20.

Take notice that the Commission received the following public utility holding company filings:

Docket Numbers: PH20-13-000.

Applicants: LS Power Development, LLC.

Description: LS Power Development, LLC submits FERC-65-B Notice of Change in Fact to Waiver Notification.

Filed Date: 7/7/20.

Accession Number: 20200707-5170.

Comments Due: 5 p.m. ET 7/28/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2020.
Nathaniel J. Davis, Sr.,
Deputy Secretary.

[FR Doc. 2020-15166 Filed 7-13-20; 8:45 am]

BILLING CODE 6717-01-P